DEPARTMENT OF COMMERCE

National Oceanic and Atmospheric Administration

RIN 0648-XD944

Determination That Italy Is Not a Large-Scale High Seas Driftnet Nation

AGENCY: National Marine Fisheries Service (NMFS), National Oceanic and Atmospheric Administration (NOAA), Commerce.

ACTION: Notice.

SUMMARY: Under the High Seas Driftnet Fisheries Enforcement Act and the Dolphin Protection Consumer Information Act (DPCIA), the Secretary of Commerce has determined that Italy no longer has vessels that use large-scale driftnets to fish on the high seas. Therefore, shipments of certain fish and fish products from Italy are no longer required to be accompanied by a Fisheries Certificate of Origin (NOAA Form 370) for importation into the United States, and any NOAA Form 370 used for fish or fish products from Italy no longer requires certification that the fish was not harvested with large-scale driftnets on the high seas.

DATES: Effective June 4, 2015.

FOR FURTHER INFORMATION CONTACT: Paul Niemeier, Foreign Affairs Specialist; telephone: 301-427-8371, paul.niemeier@noaa.gov.

SUPPLEMENTARY INFORMATION: On March 28, 1996, the U.S. Secretary of Commerce identified Italy pursuant to the U.S. High Seas Driftnet Fisheries Enforcement Act, 16 U.S.C. 1826a-1826c, as a nation for which there was reason to believe its nationals or vessels were conducting large-scale high seas driftnet fishing in contravention to United Nations General Assembly Resolution 46/215. The identification invoked, among other things, the provision of the DPCIA, 16 U.S.C. 1371(a)(2)(F) that requires that an exporting nation whose fishing vessels engage in high seas driftnet fishing provide documentary evidence that certain fish and fish products (specified in regulations at 50 CFR 216.24(f)(2)) it wishes to export to the United States were not harvested with large-scale driftnets anywhere on the high seas. Effective May 29, 1996, all shipments from Italy containing the specified fish and fish products became subject to this driftnet reporting requirement.

The reporting requirement has persisted to the present day as a deterrent to large-scale high seas driftnet fishing by Italy. The United States has not received any reports of Italian fishing vessels employing large-scale driftnets on the high seas since 2008. On April 2, 2015, the Government of Italy sent notification which certified that no Italian vessel is involved in the use of large-scale driftnets on the high seas. Italy will no longer be required to provide documentary evidence that certain fish and fish products (specified in U.S. regulations at 50 CFR 216.24(f)(2)(i) and (ii)) it wishes to export to the United States were not harvested with large-scale driftnets on the high seas. Furthermore, fish and fish products exported from Italy, and imported into the United States under Harmonized Tariff Schedule (HTS) numbers specified in U.S. regulations at 50 CFR 216.24(f)(2)(iii), will no longer need to be accompanied by a Fisheries Certificate of Origin (NOAA Form 370).

The HSDFEA furthers the purposes of United Nations General Assembly Resolution 46/215, which called for a worldwide ban on large-scale high seas driftnet fishing beginning December 31, 1992.

The DPCIA (16 U.S.C. 1371(a)(2)(F)) requires that an exporting nation whose fishing vessels engage in high seas driftnet fishing provide documentary evidence that certain fish or fish products it wishes to export to the United States were not harvested with a large-scale driftnet on the high seas. As required by 50 CFR 216.24(f)(2), the NOAA Form 370 must accompany all imported shipments of an item with an HTS number listed in that section harvested by or imported from a large-scale driftnet nation.

As of the effective date of this notice, a certification by an Italian Government representative attesting that the fish or fish products were not harvested by a large-scale driftnet on the high seas will no longer be required in Section 7 of the NOAA Form 370 for the HTS numbers specified in 50 CFR 216.24(f)(2)(i) and (ii). Furthermore, a NOAA Form 370 will no longer be required for any importation from Italy for the non-tuna fish and fish products classified with the HTS numbers specified at 50 CFR 216.24(f)(2)(iii).

Dated: June 4, 2015.
Eileen Sobeck,
Assistant Administrator for Fisheries, National Marine Fisheries Service.

[FR Doc. 2015-14326 Filed 6-10-15; 8:45 am]

BILLING CODE 3510-22-P